DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request the Office of Management and Budget (OMB) to allow the proposed information collection project: 2001-2003 Medical Expenditure Panel Survey—Insurance Component (MEPS-IC). In accordance with the Paperwork Reduction Act of 1995, Public Law 104-13 (44 U.S.C. 3506(c)(2)(A)), AHRQ invites the public to comment on this proposed information collection.

This proposed information collection was previously published in the Federal Register on August 28, 2001 and allowed 60 Days for public comment. No pubic comments were received. The purpose of this notice is to allow an additional 30 Days for public comment.

DATES: Comments on this notice must be received by November 26, 2001.

ADDRESSES: Written comments should be submitted to: Allison Eydt, Human Resources and Housing Branch, Office of Information and Regulatory Affairs, OMB: New Executive Office Building, Room 10235; Washington, D.C. 20503.

Comments submitted in response to this notice will be summarized and included in the request for OMB approval of the proposed information collection. All comments will become a matter of public record.

FOR FURTHER INFORMATION CONTACT: Cynthia D. McMichael, AHRQ Reports Clearance Officer, (301) 594-3132.

SUPPLEMENTARY INFORMATION:

Proposed Project

2001-2003 Medical Expenditure Panel Survey—Insurance Component (MEPS-IC)

The MEPS-IC, an annual survey of the characteristics of employer-sponsored health insurance, was first conducted by AHRQ in 1997 for the calendar year 1996. The survey has since been conducted annually for calendar years 1997 through 2000. AHRQ proposes to continue this annual survey of establishments for calendar years 2001 through 2003. The survey data for calendar year 2001 will be collected in 2002.

Likewise, calendar year 2002 data will be collected in 2003 and calendar year 2003 data in 2004. The survey will collect information from both public and private employers. This survey will be conducted for AHRQ by the Bureau of Census using a sample comprised of:

1. Employers selected from Census Bureau lists of private sector employers and governments (known as the List Sample), and

2. Employers identified by respondents to the MEPS-Household Component (MEPS-HC) for the same calendar year (known as the Household Sample). The MEPS-HC is an annual household survey designed to collect information concerning health care expenditures and related data for individuals. The size of the Household sample varies from year to year with the size of the MEPS-HC.

Data to be collected from each employer will include a description of the business (e.g., size, industry) and descriptions of health insurance plans available, plan enrollments, total plan costs and costs to employees.

Data Confidentiality Provisions

MEPS—IC List Sample data confidentiality is protected under the U.S. Census Bureau confidentiality statute, Section 9 of Title 13, United States Code. MEPS—IC Household Sample data confidentiality is protected under Sections 308(d) and 924(c) of the Public Health Service (PHS) Act (42 U.S.C. 242m(d) and 42 U.S.C.299c-3(c)).

Section 308(d), of the PHS Act, the confidentiality statute of the National Center for Health Statistics, is applicable because the MEPS-HC sample is derived from respondents in an earlier NCHS survey. Section 924(c), the confidentiality statute of AHRQ, applies to all data collected for research that is supported by AHRQ. All data products listed below must fully comply with the data confidentiality statute under which the raw data was collected as well as any additional confidentiality provisions that apply.

Data Products

Data will be produced in three forms: (1) files derived from the Household Sample, which can be linked back to other information from household respondents in the MEPS-HC, will be available to researchers at the AHRQ Research Data Center; (2) files containing employer information from the List Sample will be available for use by researchers at the Census Bureau's Research Data Centers; and (3) a large compendium of tables of estimates, also based on List Sample data, will be produced and made available on the AHRQ website. These tables will contain descriptive statistics, such as, numbers of establishments offering health insurance, average premiums, average contributions, total enrollments, numbers of self insured establishments and other related statistics for a large number of population subsets defined by firm size, state, industry and establishment characteristics, such as, age, profit/nonprofit status and union/nonunion.

The data are intended to be used for purposes such as:

• Generating national and State estimates of employer health care offerings;

• Producing estimates to support the Bureau of Economic Analysis and the Center for Medicare and Medicaid Services in their production of health care expenditure estimates for the National Health Accounts and the Gross Domestic Product;

• Producing national and State estimates of spending on employer-sponsored health insurance to study the results of national and State health care policies;

• Supplying data for modeling the demand for health insurance; and

• Providing data on health plan choices, costs, and benefits that can be linked back to households' use of health care resources in the MEPS-HC for studies of the consumer health care selection process.

These data provide the basis for researchers to address important questions for employers and policymakers alike.

Method of Collection

The data will be collected using a combination of modes. The Census Bureau's first contact with employers will be made by telephone. This contact will provide information on the availability of health insurance from the employer and essential persons to contact. Based upon this information, the Census Bureau will mail a questionnaire to the employer. In order to assure high response rates, the Census Bureau will follow-up with a second mailing after an interval of approximately 30 working days, followed by a telephone call to collect data from those who have not responded by mail.

As part of this process, for larger respondents with high burdens, such as State employers and very large firms, the Census Bureau will, if needed, perform personal visits and do customized collection, such as, acceptance of data in computerized formats and use of special forms.

Estimated Annual Respondent Burden
Survey years | Annual number of respondents | Estimated time per respondent in hours | Estimated total annual burden hours | Estimated annual cost to the government
2001 | 33,855 | .6 | 20,307 | $8,250,000
2002 | 35,769 | .6 | 21,663 | 8,840,000
2003 | 33,855 | .6 | 20,307 | 8,810,000

Request for Comments

In accordance with the above cited Paperwork Reduction Act legislation, comments on the AHRQ information collection proposal are requested with regard to any of the following: (a) Whether the proposed collection of information is necessary for the proper performance of functions of the Agency, including whether the information will have practical utility; (b) the accuracy of the Agency's estimate of the burden (including hours and costs) of the proposed collection of information; (c) ways to enhance the quality, utility, and clarity of the information to be collected; and, (d) ways to minimize the burden of the collection of information on respondents, including the use of automated collection techniques or other forms of information technology.

Comments submitted in response to this notice will be summarized and included in the request for OMB approval of the proposed information collection. All comments will become a matter of public record.

Dated: October 18, 2001.
John M. Eisenberg,
Director.

[FR Doc. 01-26838 Filed 10-24-01; 8:45 am]

BILLING CODE 4160-90-M